DEPARTMENT OF ENERGY

Federal Energy Regulatory Commission

[Project No. P-503-048]

Idaho Power Company; Notice of Application Tendered for Filing With the Commission, Soliciting Additional Study Requests, and Establishing Procedural Schedule for Relicensing and a Deadline for Submission of Final Amendments

July 9, 2008.

Take notice that the following hydroelectric application has been filed with the Commission and is available for public inspection.

a. Type of Application: New Major License.

b. Project No.: P-503-048.

c. Date Filed: June 26, 2008.

d. Applicant: Idaho Power Company.

e. Name of Project: Swan Falls Hydroelectric Project.

f. Location: The Swan Falls Hydroelectric Project is located on the Snake River at river mile (RM) 457.7 in Ada and Owyhee counties of southwestern Idaho and lies about 35 miles southwest of Boise. Access to the Swan Falls Project is by road from Kuna, located about 19 miles north of the project. The application states that the project occupies 528.84 acres of lands of the United States within the Snake River Birds of Prey National Conservation Area, including 30.66 acres of federally administered lands set aside in the early 1900's for power production development.

g. Filed Pursuant to: Federal Power Act 16 U.S.C. 791(a)-825(r).

h. Applicant Contact: Mr. Tom Saldin, Senior Vice President and General Counsel, Idaho Power Company, P.O. Box 70, Boise, Idaho 83707, (208) 388-2550.

i. FERC Contact: Jim Puglisi (202) 502-6241 or james.puglisi@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 26, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The Swan Falls Project consists of: (1) A 1,218-foot-long concrete gravity and rock-fill dam composed of an abutment embankment, a spillway section, a center island, the old powerhouse section, the intermediate dam, and the new powerhouse; (2) a 12-mile-long, 1,525-acre reservoir with a normal maximum water surface elevation of 2,314 feet mean sea level (msl); (3) twelve equal-width, concrete spillways with a capacity of 105,112 cubic feet per second (cfs) at reservoir elevation 2,318 msl, divided into two sections (western and eastern)—the western section, contiguous with the abutment embankment, is a gated, concrete ogee section with eight radial gates, and the eastern section, which is adjacent to the island, contains four radial gates; (4) two concrete flow channels (instead of penstocks); (5) two pit-bulb turbine generators with a nameplate rating of 25 megawatts; (6) a powerhouse completed in 1994; (7) a 1,400-foot-long, 120-foot-wide excavated tailrace channel; (8) a 33,600-kilovolt ampere main power transformer; (9) a 1.2-mile-long, 138-kilovolt transmission line; and (10) appurtenant equipment.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Idaho State Historic Preservation Officer (SHPO), as required by § 106, National Historic Preservation Act, and the regulations of the Advisory Council on Historic Preservation, 36 CFR, at 800.4.

q. Procedural schedule and final amendments: The application will be processed according to the following Hydro Licensing Schedule. Revisions to the schedule will be made as appropriate.

Issue Deficiency/Additional Information Request Letter (if needed) | September 2008
Issue Acceptance Letter | November 2008.
Issue Scoping Document 1 for comments | December 2008.
Issue Scoping Document 2 (if needed) | February 2009.
Notice of application ready for environmental analysis | April 2009.
Notice of the availability of the draft EIS | December 2009.
Notice of the availability of the final EIS | March 2010.

Final amendments to the application must be filed with the Commission no later than 30 days from the issuance date of the notice of ready for environmental analysis.

Kimberly D. Bose,
Secretary.

[FR Doc. E8-16211 Filed 7-15-08; 8:45 am]

BILLING CODE 6717-01-P